DEPARTMENT OF DEFENSE

Office of the Secretary

Sunshine Act Meeting

AGENCY: Office of the Assistant Secretary of Defense (Health Affairs); DoD.

ACTION: Notice of meeting.

SUMMARY: Pursuant to the Federal Advisory Committee Act of 1972, as amended (5 U.S.C., Appendix) and the Sunshine in the Government Act of 1976, as amended (5 U.S.C. 552b(c), announcement is made of the following meeting:

Name of Committee: The Department of Defense Task Force on the Future of the Military Health Care, a duly established subcommittee of the Defense Health Board.

Dates: February 20, 2007.

Times: 8:30 a.m.-4 p.m.

Location: The National Transportation Safety Board Conference Center located at 429 L'Enfant Plaza, Washington, DC 20594.

Agenda: The purpose of the Task Force meeting is to obtain, review, and evaluate information related to the Task Force s congressionally-directed mission to examine matters relating to the future of military health care. The Task Force members will receive briefings on topics related to the delivery of military health care.

Prior to the public meeting the Task Force will conduct an Administrative Meeting from 8:30 a.m. to 9 a.m. to discuss administrative matters of the Task Force. In addition, the Task Force, following its public meeting, will conduct a Preparatory Meeting from 2:30 p.m. to 4 p.m. to work with the Task Force staff to analyze relevant issues and facts in preparation for the next meeting of the Task Force. Both the Administrative and Preparatory Meetings will be held at the National Transportation Safety Board Conference Center. Pursuant to 41 Code of Federal Regulations, Part 102-3.160, both the Administrative and Preparatory Meetings will be closed to the public.

Additional information and meeting registration is available online at the Defense Health Board Web site, http://www.ha.osd.mil/dhb.

FOR FURTHER INFORMATION CONTACT: Colonel Christine Bader, Executive Secretary, Department of Defense Task Force on the Future of Military Health Care, Skyline One, 5205 Leesburg Pike, Suite 810, Falls Church, VA 22041, (703) 681-3279, ext. 109 (christine.bader@ha.osd.mil).

SUPPLEMENTARY INFORMATION: Open sessions of the meeting will be limited by space accommodations. Any interested person may attend; however, seating is limited to the space available at the National Transportation Safety Board Conference Center. Individuals or organizations wishing to submit written comments for consideration by the Task Force should provide their comments to the Executive Secretary of the Department of Defense Task Force on the Future of Military Health Care no later than five (5) business days prior to the scheduled meeting.

Dated: January 30, 2007.
C.R. Choate,
Alternate OSD Federal Register Liaison Officer, Department of Defense.

[FR Doc. 07-499 Filed 2-1-07; 12:09 pm]

BILLING CODE 5001-06-M